DEPARTMENT OF COMMERCE

National Oceanic and Atmospheric Administration

[I.D. 071802A]

Marine Mammals; File No. 1013-1648

AGENCY: National Marine Fisheries Service (NMFS), National Oceanic and Atmospheric Administration (NOAA), Commerce.

ACTION: Issuance of permit.

SUMMARY: Notice is hereby given that Dr. Patricia E. Mascarelli, Carribean Center for Marine Studies, P.O. Box 3197, Lajas, PR 00667, has been issued a permit to take humpback whales (Megaptera novaeangliae), spinner dolphins (Stenella longirostris), and bottlenose dolphins (Tursiops truncatus) for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Tammy Adams or Ruth Johnson, (301)713-2289.

SUPPLEMENTARY INFORMATION: On November 14, 2001, notice was published in the Federal Register (66 FR 57040) that a request for a scientific research permit to take humpback whales, spinner dolphins, and bottlenose dolphins had been submitted by the above-named individual. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Permit No. 1013-1648 authorizes takes of up to 50 humpback whales per year for 5 years by harassment from close approach for photo-identification, collection of sloughed skin, and behavioral observations for the purpose of estimating abundance, habitat use, and behavior. The permit also authorizes inadvertent harassment of up to 200 humpback whales per year and unlimited annual takes of spinner and bottlenose dolphins by inadvertent harassment during these activities.

Issuance of this permit, as required by the ESA, was based on a finding that such permit (1) was applied for in good faith, (2) will not operate to the disadvantage of the endangered species which is the subject of this permit, and (3) is consistent with the purposes and policies set forth in section 2 of the ESA.

Dated: August 8, 2002.
Eugene T. Nitta,
Acting Chief, Permits, Conservation and Education Division, Office of Protected Resources, National Marine Fisheries Service.

[FR Doc. 02-20736 Filed 8-14-02; 8:45 am]

BILLING CODE 3510-22-S